DEPARTMENT OF THE INTERIOR

Bureau of Ocean Energy Management, Regulation and Enforcement

Gulf of Mexico (GOM), Outer Continental Shelf (OCS), Western Planning Area (WPA), Oil and Gas Lease Sale for the 2007-2012 5-Year OCS Program

AGENCY: Bureau of Ocean Energy Management, Regulation and Enforcement (BOEMRE), Interior.

ACTION: Notice of Availability (NOA) of a Draft Supplemental Environmental Impact Statement (SEIS) and Public Meetings.

SUMMARY: BOEMRE has prepared a Draft SEIS on an oil and gas lease sale tentatively scheduled in late 2011 for WPA Lease Sale 218, which is the final WPA lease sale in the 2007-2012 5-Year OCS Program. The proposed sale is in the Gulf of Mexico's WPA off the States of Texas and Louisiana. This Draft SEIS updated the environmental and socioeconomic analyses for the WPA Lease Sale 218, originally evaluated in the Gulf of Mexico OCS Oil and Gas Lease Sales: 2007-2012; WPA Sales 204, 207, 210, 215, and 218; Central Planning Area (CPA) Sales 205, 206, 208, 213, 216, and 222, Final EIS (OCS EIS/EA MMS 2007-018) (Multisale EIS), completed in April 2007. This Draft SEIS also updated the environmental and socioeconomic analyses for the WPA Lease Sale 218 in the GOM OCS Oil and Gas Lease Sales: 2009-2012; CPA Sales 208, 213, 216, and 222; WPA Sales 210, 215, and 218; Final Supplemental EIS (OCS EIS/EA MMS 2008-041) (2009-2012 SEIS), completed in September 2008.

DATES: Public meetings to obtain additional comments and information regarding the Draft SEIS scheduled for May 17, 2011, and May 19, 2011. For additional information see SUPPLEMENTARY INFORMATION.

FOR FURTHER INFORMATION CONTACT: For more information on the Draft SEIS or the public meetings, you may contact Mr. Gary D. Goeke, Bureau of Ocean Energy Management, Regulation and Enforcement, Gulf of Mexico OCS Region, 1201 Elmwood Park Boulevard (MS 5412), New Orleans, Louisiana 70123-2394, or by e-mail at WPASupplementalEIS@boemre.gov. You may also contact Mr. Goeke by telephone at (504) 736-3233.

SUPPLEMENTARY INFORMATION: BOEMRE developed the Draft SEIS for WPA Lease Sale 218 to reflect new information made available since completion of the Multisale EIS and the 2009-2012 SEIS and to consider the Deepwater Horizon event. This Draft SEIS provides updates on the baseline conditions and potential environmental effects of oil and natural gas leasing, exploration, development, and production in the WPA. BOEMRE conducted an extensive search for such new information, from scientific journals; interviews with personnel from academic institutions; Federal, state, and local agencies; and various other sources. BOEMRE has reexamined potential impacts of routine activities and accidental events, including a possible large-scale event, associated with the proposed WPA lease sale. BOEMRE has also re-analyzed the proposed lease sale's incremental contribution to the cumulative impacts on environmental and socioeconomic resources. Like the Multisale EIS and the 2009-2012 SEIS, the oil and gas resource estimates and scenario information for this Draft SEIS are presented as a range that would encompass the resources and activities estimated for this proposed lease sale.

Draft Supplemental EIS Availability: To obtain a single printed or CD-ROM copy of the Draft SEIS for WPA Lease Sale 218, you may contact BOEMRE, Gulf of Mexico OCS Region, Public Information Office (MS 5034), 1201 Elmwood Park Boulevard, Room 114, New Orleans, Louisiana 70123-2394 (1-800-200-GULF). An electronic copy of the Draft SEIS (as well as links to the Multisale EIS and the 2009-2012 SEIS) is available at BOEMRE's Internet Web site at http://www.gomr.boemre.gov/homepg/regulate/environ/nepa/nepaprocess.html. The CD-ROM version of the Draft SEIS also contains copies of the Multisale EIS and the 2009-2012 SEIS.

Several libraries along the Gulf Coast have been sent copies of the Draft SEIS. To find out which libraries and their locations have copies of the Draft Supplemental EIS for review, you may contact BOEMRE's Public Information Office or visit BOEMRE's Internet Web site at http://www.gomr.boemre.gov/homepg/regulate/environ/libraries.html.

Comments: Federal, State, and local government agencies and other interested parties are requested to send their written comments on the Draft Supplemental EIS in one of the following two ways:

1. In written form enclosed in an envelope labeled “Comments on the WPA Lease Sale 218 Draft Supplemental EIS” and mailed (or hand carried) to the Regional Supervisor, Leasing and Environment (MS 5410), Bureau of Ocean Energy Management, Regulation and Enforcement, Gulf of Mexico OCS Region, 1201 Elmwood Park Boulevard, New Orleans, Louisiana 70123-2394.

2. Electronically to the BOEMRE e-mail address: WPASupplementalEIS@boemre.gov. Comments should be submitted no later than 45 days from the publication of this NOA.

Public Meetings: BOEMRE will hold public meetings to obtain additional comments and information regarding the Draft SEIS. These meetings are scheduled as follows:

• Tuesday, May 17, 2011; Houston Airport Marriott at George Bush Intercontinental, 18700 John F. Kennedy Boulevard, Houston, Texas 77032, beginning at 1 p.m. and 6 p.m. CDT; and

• Thursday, May 19, 2011, Bureau of Ocean Energy Management, Regulation and Enforcement, 1201 Elmwood Park Boulevard, New Orleans, Louisiana 70123, beginning at 1 p.m. and 6 p.m. CDT.

Authority: This NOA is published pursuant to the regulations (40 CFR 1503) implementing the provisions of the National Environmental Policy Act (NEPA) of 1969, as amended (42 U.S.C. 4321 et seq. (1988)).

Dated: April 18, 2011.
L. Renee Orr,
Acting Associate Director for Offshore Energy and Minerals Management.

[FR Doc. 2011-9701 Filed 4-19-11; 8:45 am]

BILLING CODE 4310-MR-P